DEPARTMENT OF THE INTERIOR

Bureau of Reclamation

DEPARTMENT OF DEFENSE

Department of the Army; Corps of Engineers

Notice of Intent To Prepare an Environmental Impact Statement (EIS) for the Intake Diversion Dam Modification, Lower Yellowstone Project, Montana

AGENCIES: Bureau of Reclamation, Interior, and Corps of Engineers, Army.

ACTION: Notice of intent to prepare an environmental impact statement (EIS) for the Intake Diversion Dam Modification, Lower Yellowstone Project, Montana.

SUMMARY: Pursuant to section 102(2)(C) of the National Environmental Policy Act (NEPA) of 1969, as amended, and the Council on Environmental Quality's (CEQ) regulations for implementing the procedural provisions of NEPA, the Bureau of Reclamation (Reclamation) and the U.S. Army, Corps of Engineers (Corps) propose to jointly prepare an EIS that analyzes and discloses effects associated with modifications to Intake Diversion Dam. The proposed Federal action is to modify Intake Diversion Dam and canal headworks, features of Reclamation's Lower Yellowstone Project, to improve passage and reduce entrainment for endangered pallid sturgeon and other native fish in the lower Yellowstone River.

Reclamation and the Corps will serve as joint lead Federal agencies in the preparation of the Intake Diversion Dam Modification EIS. Reclamation will act as administrative lead for NEPA compliance activities during preparation of the EIS. Reclamation and the Corps will each consider and approve a Record of Decision regarding actions and decisions for which the respective agencies are responsible.

DATES: Public scoping meetings will be held in October 2008. See the SUPPLEMENTARY INFORMATION section for dates and locations of these meetings. Written or e-mailed comments on the scope of issues and alternatives to be considered in the Draft EIS will be accepted through November 14, 2008.

ADDRESSES: Written comments and requests to be added to the mailing list may be submitted to Bureau of Reclamation, Montana Area Office, Attention: Paula Holwegner, P.O. Box 30137, Billings, MT 59107.

FOR FURTHER INFORMATION CONTACT: Paula Holwegner, Bureau of Reclamation, Montana Area Office, P.O. Box 30137, Billings, MT 59107; telephone (406) 247-7300; or facsimile to (406) 247-7338. You may submit comments, requests, and/or other information by e-mail to pholwegner@gp.usbr.gov.

SUPPLEMENTARY INFORMATION:

Dates of Public Scoping Meetings

• October 21, 2008, 5:30 p.m.-8:30 p.m., Sidney, MT

• October 22, 2008, 5:30 p.m.-8:30 p.m., Glendive, MT

• October 23, 2008, 5:30 p.m.-8:30 p.m., Billings, MT

Locations of Public Scoping Meetings

• Community Services Building—1201 West Holly, Sidney, MT

• Dawson Community College—300 College Drive—Ullman Center Room 102, Glendive, MT

• Montana State University Downtown Campus—207 North Broadway, Billings, MT

The meeting facilities are physically accessible to people with disabilities. People needing special assistance to attend and/or participate in the public hearings should contact Patience Hurley at 701-221-1204 in the Dakotas Area Office in Bismarck as soon as possible. To allow sufficient time to process special requests, please call no later than one week before the public hearing of interest.

Background Information

Reclamation's Lower Yellowstone Project is located in eastern Montana and western North Dakota. Intake Diversion Dam is located approximately 70 miles upstream of the confluence of the Yellowstone and Missouri rivers near Glendive, Montana. The Lower Yellowstone Project was authorized by the Secretary of the Interior on May 10, 1904. Construction of the Lower Yellowstone Project began in 1905 and included Intake Diversion Dam (also known as Yellowstone River Diversion Dam)—a 12-foot high wood and stone diversion dam that spans the Yellowstone River and diverts water into the Main Canal for irrigation. The Lower Yellowstone Project was authorized to provide a dependable water supply sufficient to irrigate approximately 52,000 acres of land on the benches above the west bank of the Yellowstone River. Water is also supplied to irrigate approximately 830 acres in the Intake Irrigation Project and 2,200 acres in the Savage Unit. Both of the smaller irrigation projects pump water from the Main Canal. The average annual volume of water diverted for these projects is 327,046 acre-feet.

The Service listed the pallid sturgeon as endangered under the ESA in 1990. The wild population of pallid sturgeon inhabiting the Yellowstone River and the Missouri River between Fort Peck Dam and Lake Sakakawea are anticipated to be extirpated by 2017 if reproduction and recruitment of young fish does not improve. The best available science suggests Intake Diversion Dam impedes upstream migration of pallid sturgeon and their access to spawning and larval drift habitats. In addition, previous entrainment studies on other native fish in the Yellowstone River suggest that once passage is provided, pallid sturgeon may be entrained in the Main Canal.

The lower Yellowstone River is considered to provide one of the best opportunities for recovery of pallid sturgeon. Section 7(a)(1) of the ESA directs Federal agencies to utilize their authorities to further the purposes of the ESA by carrying out conservation programs for listed species. Reclamation has been in informal consultation with the Service to identify potential conservation measures to minimize adverse effects to pallid sturgeon associated with continued operation of the Lower Yellowstone Project on the Yellowstone River. The Pallid Sturgeon Recovery Plan specifically identifies providing passage at Intake Diversion Dam to protect and restore pallid sturgeon populations. By providing passage at Intake Diversion Dam, approximately 160 river miles of spawning and larval drift habitat would become available in the Yellowstone River. By installing fish entrainment reduction measures, pallid sturgeon entrainment in the Main Canal would be minimized.

The Service recommended in their 2003 amendment to the Missouri River Master Manual biological opinion that the Corps assist Reclamation in providing passage for pallid sturgeon at Intake Diversion Dam as a conservation recommendation. Section 3109 of the 2007 Water Resources Development Act authorizes the Corps to use funding from the Missouri River Recovery and Mitigation Program to assist Reclamation with compliance, design, and construction of modifications to the Lower Yellowstone Project for purposes of ecosystem restoration.

Reclamation initiated a collaborative effort with the Service; Corps; Montana Fish, Wildlife and Parks; Lower Yellowstone Irrigation District; and The Nature Conservancy through a Memorandum of Understanding (MOU) signed on July 8, 2005. Reclamation coordinated a value planning study in August 2005 with representatives from parties signatory to the MOU to explore and evaluate a broad range of alternatives for fish passage and entrainment reduction.

Reclamation and the Corps will use a broad range of scoping activities to fully identify the range of potentially significant issues, actions, alternatives, and impacts to be considered in the EIS. These scoping activities will ensure the public has sufficient opportunity to review and comment on the proposed Federal action and reasonable alternatives for fish passage and entrainment reduction at Intake Diversion Dam. Public comments are invited and encouraged to assist agencies in identifying the scope of potentially significant environmental, social, and economic issues relevant to the proposed Federal action and determining reasonable alternatives to be considered in the EIS.

Reclamation and the Corps have scheduled three public scoping meetings and are inviting agencies, tribes, non-governmental organizations, and the public to participate in an open exchange of information and to provide comments on the proposed scope of the EIS.

Preliminary Alternatives

As required by CEQ's implementing regulations, all reasonable alternatives to the proposed Federal action that meet the purpose and need will be considered in the EIS. These alternatives will include no action and a range of reasonable alternatives for improving fish passage and reducing entrainment. Appropriate mitigation measures will be incorporated into the proposed action and reasonable alternatives. The EIS will analyze and disclose environmental impacts associated with the proposed Federal action and alternatives together with engineering, operations and maintenance, social, and economic considerations. Through MOU partner discussions and evaluations, alternatives for passage have been identified, discussed, and analyzed. Preliminary alternatives to improve fish passage include the following:

(1) Passage around the existing diversion dam;

(2) Relocation of the diversion dam and canal headworks to take advantage of hydrology and topography;

(3) Removing the dam and constructing a single or multiple pumping plants; and

(4) Variations of a low-gradient rock ramp in the river.

The preliminary alternatives for reducing entrainment include:

(1) A fish screen structure in the Main Canal with fish bypass to river; and

(2) A rotary drum fish screen on the bank of the river.

The EIS will also include a no action alternative that does not improve fish passage or reduce entrainment. The public is invited and encouraged to identify other reasonable alternatives to improve fish passage and reduce entrainment at the Intake Diversion Dam and canal headworks.

Preliminary Identification of Environmental Issues

A range of issues relevant to the proposed Federal action have tentatively been identified for consideration and analysis in the EIS. This list is preliminary and is intended to facilitate public comment on the scope of this EIS. Reclamation and the Corps invite you to comment on the following general questions that reflect potentially significant issues or questions of widespread public interest believed to be relevant to the proposed Federal action. Reclamation and the Corps invite and encourage comments that identify other potentially significant issues and effects that you believe should be addressed in the EIS.

How would the proposed action affect or address the following:

• Aquatic communities and habitats in the lower Yellowstone River?

• Delivery of irrigation water for the Lower Yellowstone Project?

• Continued operation and viability of irrigated agriculture in the Lower Yellowstone Project?

• Water-based recreation, such as changes to boat ramps and/or changes to angling opportunities for paddlefish and other fish?

• Economic conditions related to the paddlefish caviar industry?

• Social and economic conditions in affected communities associated with construction activities and long-term operation and maintenance, including paddlefish caviar harvest and concession activities?

• Short-term and long-term impacts on surface water quality?

• Floodplain, wetlands, and riparian communities?

• Water quantity associated with operations and climate change?

• Land-based recreation, including possible changes to the public park area and river access?

• Relevant cumulative environmental impacts to the Yellowstone River from past, present, and reasonably foreseeable future actions?

• Cultural resources such as historic, archaeological, architectural, or traditional properties?

• Environmental justice, particularly whether or not water management activities have a disproportionate adverse effect on minority and low-income populations?

• Compliance with all applicable Federal, State, and local statutes and regulations and with international agreements and required Federal and State environmental permits, consultations, and notifications?

• Compliance with all applicable executive orders?

Public Disclosure Statement

Reclamation and the Corps believe it is important to inform the public of the environmental review process. To assist Reclamation and the Corps in identifying and considering issues related to the proposed Federal action, comments made during formal scoping and later on the draft EIS should be as specific as possible. Reviewers must structure their participation in the environmental review of the proposal so that it is meaningful and alerts Reclamation and the Corps to the reviewer's position and contentions. It is very important that those interested in this proposed Federal action participate by the close of the scoping period so that substantive comments and objections are made available to Reclamation and the Corps at a time when they can meaningfully consider and respond to them.

If you wish to comment, you may mail or e-mail your comments as indicated under the ADDRESSES section. Before including your name, address, phone number, e-mail address, or any other personal identifying information in your comment, you should be aware that your entire comment including your personal identifying information may be made available to the public at any time.

While you can request in your comment for us to withhold your personal identifying information from public review, we cannot guarantee that we will be able to do so.

Dated: September 5, 2008.
Michael J. Ryan,
Regional Director, Great Plains Region, Bureau of Reclamation.
Witt Anderson,
Director, Programs, Northwestern Division, Corps of Engineers.

[FR Doc. E8-21188 Filed 9-11-08; 8:45 am]

BILLING CODE 4310-MN-P